COMMISSION ON CIVIL RIGHTS

Notice of Public Meeting of the New Hampshire Advisory Committee; Correction

AGENCY: U.S. Commission on Civil Rights.

ACTION: Correction: Announcement of meeting.

SUMMARY: The Commission on Civil Rights published a document September 4, 2018, announcing an upcoming New Hampshire Advisory Committee. The document contained incorrect date and address to the meeting.

FOR FURTHER INFORMATION CONTACT: Barbara de La Viez, DFO, at bdelaviez@usccr.gov or 202-376-7533.

CORRECTION: In the Federal Register of September 4, 2018, in FR Doc. 2018-19036, on pages 44857-448584 in the third columns, delete the “Dates” and replace it with September 12, 2018 at 4 p.m. EDT, and delete the “Addresses” and replace it with 87 Middle Street, Manchester, NH 03101.

Dated: September 5, 2018.
David Mussatt,
Supervisory Chief, Regional Programs Unit.

[FR Doc. 2018-19593 Filed 9-10-18; 8:45 am]

BILLING CODE P